SECURITIES AND EXCHANGE COMMISSION

[Release No. 34-84434; File No. SR-NYSE-2018-48]

Self-Regulatory Organizations; New York Stock Exchange LLC; Notice of Filing and Immediate Effectiveness of Proposed Rule Change of Non-Substantive Amendments to Rules 1.1, 7.31, and 7.46

October 16, 2018.

Pursuant to Section 19(b)(1) ¹ of the Securities Exchange Act of 1934 (the “Act”) ² and Rule 19b-4 thereunder,³ notice is hereby given that on October 3, 2018, New York Stock Exchange LLC (“NYSE” or the “Exchange”) filed with the Securities and Exchange Commission (the “Commission”) the proposed rule change as described in Items I and II below, which Items have been prepared by the self-regulatory organization. The Commission is publishing this notice to solicit comments on the proposed rule change from interested persons.

¹ 15 U.S.C.78s(b)(1).

² 15 U.S.C. 78a.

³ 17 CFR 240.19b-4.

I. Self-Regulatory Organization's Statement of the Terms of Substance of the Proposed Rule Change

The Exchange proposes non-substantive amendments to Rules 1.1, 7.31, and 7.46. The proposed rule change is available on the Exchange's website at www.nyse.com, at the principal office of the Exchange, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Exchange proposes to reorganize the terms defined in Rule 1.1, Definitions, to place them in alphabetical order. The Exchange does not propose to amend the definition of any term that is currently defined in Rule 1.1. The Exchange also proposes to adopt a definition of the term “Exchange Act” under Rule 1.1(h), which would be defined as “the Securities Exchange Act of 1934, as amended.” This definition is identical to the same definition in the rules of the Exchange's affiliate, NYSE Arca.⁴

⁴ See NYSE Arca Rule 1.1(q).

The Exchange also proposes to amend Rules 7.31 and 7.46 to re-name “Limit Non-Routable Order” as “Non-Routable Limit Order” and “Limit Non-Displayed Order” as “Non-Displayed Limit Order.” These proposed rule changes are based on the terms used by the Exchange's affiliates, NYSE American LLC (“NYSE American”) and NYSE Arca, for the same order types.⁵ In both cases, the Exchange believes that it promotes clarity and consistency in its rules to move the respective modifier for each of these rules before the term “Limit Order.” The Exchange does not propose to amend the operation of either order type.

⁵ See NYSE American Rules 7.31E(d)(2), 7.31E(e)(1)(E), 7.46E(f)(5)(E), and 7.46-E(f)(5)(F). See also NYSE Arca Rule 7.31-E(d)(2), 7.31-E(e)(1), 7.46-E(f)(5)(E), and 7.46-E(f)(5)(F).

2. Statutory Basis

The proposed rule change is consistent with Section 6(b) of the Securities Exchange Act of 1934 (the “Act”),⁶ in general, and furthers the objectives of Section 6(b)(5),⁷ in particular, because it is designed to prevent fraudulent and manipulative acts and practices, to promote just and equitable principles of trade, to foster cooperation and coordination with persons engaged in facilitating transactions in securities, to remove impediments to, and perfect the mechanism of, a free and open market and a national market system and, in general, to protect investors and the public interest.

⁶ 15 U.S.C. 78f(b).

⁷ 15 U.S.C. 78f(b)(5).

The Exchange believes that alphabetizing the defined terms under Rule 1.1 would remove impediments to, and perfect the mechanism of, a free and open market and a national market system because it add clarity to the Exchange's rules and make the defined terms easier to navigate. The Exchange does not propose to amend the definition of any term that is currently defined in Rule 1.1. In addition, the proposed definition of the term “Exchange Act” under Rule 1.1(h), is identical to the same definition in the rules of the Exchange's affiliate, NYSE Arca.⁸

⁸ See NYSE Arca Rule 1.1(q).

The Exchange also believes that renaming “Limit Non-Displayed Order” as “Non-Displayed Limit Order” and “Limit Non-Routable Order” as “Non-Routable Limit Order” would remove impediments to and perfect the mechanism of a free and open market and a national market system because the proposed changes are designed to promote clarity and consistency in Exchange rules by moving the modifier describing the function of the order type before the term “Limit Order.” The Exchange does not propose any changes to the operation of either order type. These proposed rule changes are also based on the terms used by the Exchange's affiliates, NYSE American and NYSE Arca, for the same order types,⁹ and would, therefore, remove impediments to, and perfect the mechanism of, a free and open market and a national market system by ensuring consistent terms are use amongst the Exchange and its affiliates for the same order types.

⁹ See NYSE American Rules 7.31E(d)(2), 7.31E(e)(1)(E), 7.46E(f)(5)(E), and 7.46-E(f)(5)(F). See also NYSE Arca Rule 7.31-E(d)(2), 7.31-E(e)(1), 7.46-E(f)(5)(E), and 7.46-E(f)(5)(F).

B. Self-Regulatory Organization's Statement on Burden on Competition

The Exchange does not believe that the proposed rule change will impose any burden on competition that is not necessary or appropriate in furtherance of the purposes of the Act. The proposed rule change will not have any impact on competition because it simply alphabetize definitions and renames two order types and does not make any changes to the operation of those order types or to alter any existing definition. In addition, the proposed definition of “Exchange Act” will not have a competitive impact because the new definition is intended to simply add clarity to the Exchange's rules and is identical to the same definition in the rules of the Exchange's affiliate, NYSE Arca.¹⁰

¹⁰ See NYSE Arca Rule 1.1(q).

C. Self-Regulatory Organization's Statement on Comments on the Proposed Rule Change Received From Members, Participants, or Others

No written comments were solicited or received with respect to the proposed rule change.

III. Date of Effectiveness of the Proposed Rule Change and Timing for Commission Action

The Exchange has filed the proposed rule change pursuant to Section 19(b)(3)(A)(iii) of the Act ¹¹ and Rule 19b-4(f)(6) thereunder.¹² Because the foregoing proposed rule does not (i) significantly affect the protection of investors or the public interest; (ii) impose any significant burden on competition; and (iii) become operative for 30 days from the date on which it was filed, or such shorter time as the Commission may designate if consistent with the protection of investors and the public interest, provided that the self-regulatory organization has given the Commission written notice of its intent to file the proposed rule change at least five business days prior to the date of filing of the proposed rule change or such shorter time as designated by the Commission,¹³ the proposed rule change has become effective pursuant to Section 19(b)(3)(A) of the Act ¹⁴ and Rule 19b-4(f)(6) thereunder.¹⁵

¹¹ 15 U.S.C. 78s(b)(3)(A)(iii).

¹² 17 CFR 240.19b-4(f)(6).

¹³ The Exchange has satisfied this requirement.

¹⁴ 15 U.S.C. 78s(b)(3)(A).

¹⁵ 17 CFR 240.19b-4(f)(6).

At any time within 60 days of the filing of such proposed rule change, the Commission summarily may temporarily suspend such rule change if it appears to the Commission that such action is necessary or appropriate in the public interest, for the protection of investors, or otherwise in furtherance of the purposes of the Act. If the Commission takes such action, the Commission shall institute proceedings under Section 19(b)(2)(B) ¹⁶ of the Act to determine whether the proposed rule change should be approved or disapproved.

¹⁶ 15 U.S.C. 78s(b)(2)(B).

IV. Solicitation of Comments

Interested persons are invited to submit written data, views, and arguments concerning the foregoing, including whether the proposed rule change is consistent with the Act. Comments may be submitted by any of the following methods:

Electronic Comments

• Use the Commission's internet comment form (http://www.sec.gov/rules/sro.shtml); or

• Send an email to rule-comments@sec.gov. Please include File Number SR-NYSE-2018-48 on the subject line.

Paper Comments

• Send paper comments in triplicate to Brent J. Fields, Secretary, Securities and Exchange Commission, 100 F Street NE, Washington, DC 20549-1090.

All submissions should refer to File Number SR-NYSE-2018-48. This file number should be included on the subject line if email is used. To help the Commission process and review your comments more efficiently, please use only one method. The Commission will post all comments on the Commission's internet website (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street NE, Washington, DC 20549 on official business days between the hours of 10:00 a.m. and 3:00 p.m. Copies of the filing also will be available for inspection and copying at the principal office of the Exchange. All comments received will be posted without change. Persons submitting comments are cautioned that we do not redact or edit personal identifying information from comment submissions. You should submit only information that you wish to make available publicly. All submissions should refer to File Number SR-NYSE-2018-48 and should be submitted on or before November 13, 2018.

For the Commission, by the Division of Trading and Markets, pursuant to delegated authority.¹⁷
¹⁷ 17 CFR 200.30-3(a)(12).
Eduardo A. Aleman,
Assistant Secretary.

[FR Doc. 2018-22905 Filed 10-19-18; 8:45 am]

BILLING CODE 8011-01-P